DEPARTMENT OF COMMERCE

National Oceanic and Atmospheric Administration

15 CFR Part 902

[Docket No. 070910507-0576-03]

RIN 0648-AV94

Endangered and Threatened Wildlife and Plants: Final Rulemaking To Establish Take Prohibitions for the Threatened Southern Distinct Population Segment of North American Green Sturgeon; Permit and Reporting Requirements

AGENCY: National Marine Fisheries Service (NMFS), National Oceanic and Atmospheric Administration (NOAA), Commerce.

ACTION: Final rule; approval of collection-of-information requirements.

SUMMARY: NMFS announces the approval of collection-of-information requirements contained in protective regulations established under the Endangered Species Act (ESA) for the threatened Southern Distinct Population Segment of North American green sturgeon (Acipenser medirostris; hereafter, Southern DPS). The intent of this final rule is to inform the public of the permitting and reporting requirements.

DATES: The amendment to 15 CFR 902.1 is effective January 12, 2011. The collection-of-information requirements in 50 CFR 223.210 are approved on January 12, 2011.

ADDRESSES: Written comments regarding the burden-hour estimates or other aspects of the collection-of-information requirements contained in this final rule may be submitted to the Assistant Regional Administrator, Protected Resources Division, Southwest Region (SWR), NMFS, 501 West Ocean Boulevard, Suite 4200, Long Beach, CA 90802-4213, and by e-mail to OIRA_Submission@omb.eop.gov or fax to 202-395-7285.

FOR FURTHER INFORMATION CONTACT: Melissa Neuman, NMFS SWR, 562-980-4115.

SUPPLEMENTARY INFORMATION:

Electronic Access

This Federal Register document is also accessible at the Web site of the Office of the Federal Register: http://www.gpoaccess.gov/fr/index.html.

Background

A final rule to establish protective regulations under section 4(d) of the ESA for the Southern DPS was published in the Federal Register on June 2, 2010 (75 FR 30714) (the final ESA 4(d) Rule). The final ESA 4(d) Rule, other than the collection-of-information requirements, went into effect on July 2, 2010. When the final rule was published, the Office of Management and Budget (OMB) had not yet approved the collection-of-information requirements under the Paperwork Reduction Act (PRA), and therefore the effective date of the permitting and reporting requirements in that rule was delayed. No public comments were received regarding the permitting and reporting requirements in the final ESA 4(d) Rule.

OMB approved the collection-of-information requirements contained in the final ESA 4(d) Rule on October 5, 2010. Accordingly, this final rule announces the approval January 12, 2011 of the collection-of-information requirements at 50 CFR 223.210, as published in the final ESA 4(d) Rule.

Under NOAA Administrative Order 205-11, dated December 17, 1990, the Under Secretary for Oceans and Atmosphere has delegated authority to sign material for publication in the Federal Register to the Assistant Administrator for Fisheries, NOAA.

Classification

This final rule has been determined to be not significant for purposes of Executive Order 12866.

Notwithstanding any other provision of the law, no person is required to respond to, and no person shall be subject to penalty for failure to comply with, a collection of information subject to the requirements of the PRA, unless that collection of information displays a currently valid OMB control number.

This final rule concerns the following collection-of-information requirements subject to the PRA and approved by OMB under control number 0648-0613: (1) Exception for Federal, State, or private-sponsored research or monitoring—written notification regarding Federal, State, or private-sponsored research or monitoring activities that meet the exception criteria in the ESA 4(d) Rule, to be submitted at least 60 days prior to the start of the research or monitoring activities, and regular reports summarizing project results and total numbers of takes of ESA listed species, to be submitted on a schedule to be determined by NMFS; (2) Exception for habitat restoration activities—written notification regarding habitat restoration activities that meet the exception criteria in the ESA 4(d) Rule, to be submitted at least 60 days prior to the start of the restoration project, and regular progress reports to be submitted on a schedule to be determined by NMFS; (3) Exception for emergency fish rescue activities—written reports regarding emergency fish rescue activities conducted under the ESA 4(d) Rule exception, to be submitted within 30 days after conducting emergency fish rescue activities; (4) Fishery Management and Evaluation Plans (FMEPs) for NMFS review and approval and biannual reports providing the number of green sturgeon taken in the fishery and an evaluation and summary of the effectiveness of the FMEP; (5) Tribal Fishery Management Plans (TFMPs) for NMFS review and approval; and (6) State ESA 4(d) research programs for NMFS review and approval and annual reports summarizing project results and the number of green sturgeon taken directly or incidentally for each project under the NMFS-approved State ESA 4(d) research program.

The public reporting burden per response for this collection-of-information is estimated to average: (1) 40 hours to prepare a written notification describing Federal, State, or private-sponsored research or monitoring activities that comply with the ESA 4(d) Rule exception criteria and 5 hours to prepare reports summarizing those activities; (2) 40 hours to prepare a written notification describing habitat restoration activities that comply with the ESA 4(d) Rule exception criteria and 5 hours to prepare progress reports summarizing those activities; (3) 5 hours to prepare reports on emergency fish rescue activities for Southern DPS fish; (4) 40 hours for development of an FMEP and 5 hours to prepare the biannual reports; (5) 20 hours for development of a TFMP; and (6) 40 hours for development of a State ESA 4(d) research program and 5 hours to prepare the annual reports. These estimates include the time for reviewing instructions, searching existing data sources, gathering and maintaining the data needed, and completing and reviewing the collection-of-information. Send comments regarding these burden estimates or any other aspect of this data collection, including suggestions for reducing the burden, to the Assistant Regional Administrator, Protected Resources Division, SWR, NMFS (see ADDRESSES) and by e-mail to OIRA_Submission@omb.eop.gov or fax to 202-395-7285.

List of Subjects in 15 CFR Part 902

Reporting and recordkeeping requirements.

Dated: December 8, 2010.
Samuel D. Rauch III,
Deputy Assistant Administrator for Regulatory Programs, National Marine Fisheries Service.

For the reasons set out in the preamble, NMFS amends 15 CFR part 902 as follows:

PART 902—NOAA INFORMATION COLLECTION REQUIREMENTS UNDER THE PAPERWORK REDUCTION ACT: OMB CONTROL NUMBERS

1. The authority citation for part 902 continues to read as follows:

Authority: 44 U.S.C. 3501 et seq.

2. In § 902.1, amend the table in paragraph (b), under the entry “50 CFR” by adding an entry for “223.210” in numerical order, to read as follows:

§ 902.1 OMB control numbers assigned pursuant to the Paperwork Reduction Act.

* * * * *

(b) * * *

CFR part or section where the information collection requirement is located | Current OMB control number (all numbers begin with 0648-)
* * * * * |
50 CFR
* * * * *
223.210 | -0613
* * * * *

[FR Doc. 2010-31216 Filed 12-10-10; 8:45 am]

BILLING CODE 3510-22-P